CONSUMER PRODUCT SAFETY COMMISSION

16 CFR Part 1420

[CPSC Docket No. 2017-0032]

Standard for All-Terrain Vehicles

AGENCY: Consumer Product Safety Commission.

ACTION: Final rule.

SUMMARY: The Consumer Product Safety Act (CPSA), as amended by the Consumer Product Safety Improvement Act of 2008 (CPSIA), required the Consumer Product Safety Commission (CPSC or the Commission) to publish, as a mandatory consumer product safety standard, the American National Standard for Four-Wheel All-Terrain Vehicles (ATVs) developed by the Specialty Vehicle Institute of America (ANSI/SVIA 1-2007). CPSC published that mandatory consumer product safety standard in November 2008. In March 2023, ANSI/SVIA issued a 2023 edition of its standard. In accordance with the CPSA, CPSC is issuing this final rule to amend the Commission's mandatory ATV standard to reference the 2023 edition of the ANSI/SVIA 1 standard.

DATES: This rule is effective on January 1, 2025. The incorporation by reference of the publication listed in this rule is approved by the Director of the Federal Register as of January 1, 2025.

FOR FURTHER INFORMATION CONTACT: William Cusey, Small Business Ombudsman, U.S. Consumer Product Safety Commission, 4330 East West Highway, Bethesda, Maryland 20814; telephone: 301-504-7833; email: wcusey@cpsc.gov.

SUPPLEMENTARY INFORMATION:

I. Background and Statutory Authority

Section 42 of the CPSA, as amended by section 232 of the CPSIA, directed the Commission to “publish in the Federal Register as a mandatory consumer product safety standard the American National Standard for Four-Wheel All-Terrain Vehicles Equipment Configuration, and Performance Requirements developed by the Specialty Vehicle Institute of America (American National Standard ANSI/SVIA 1-2007).” 15 U.S.C. 2089(a)(1). Accordingly, on November 14, 2008, CPSC published a final rule, codified at 16 CFR part 1420, establishing ANSI/SVIA 1-2007 as a mandatory consumer product safety standard. 73 FR 67385.

Section 42(b) of the CPSA provides that if ANSI/SVIA 1-2007 is revised after the Commission has published a Federal Register notice mandating the standard as a consumer product safety standard, ANSI must notify the Commission of the revision, and the Commission has 120 days after it receives that notification to issue a notice of proposed rulemaking to amend the Commission's mandatory ATV standard “to include any such revision that the Commission determines is reasonably related to the safe performance of all-terrain vehicles, and notify the Institute of any provision it has determined not to be so related.” 15 U.S.C. 2089(b)(1) and (2). The Commission has 180 days after publication of the proposed amendment to publish a final amendment to revise the ATV standard. 15 U.S.C. 2089(b)(2).

In 2012, the Commission revised part 1420 in accordance with the revision procedures set out in the CPSA, to reference the 2010 edition of the ANSI/SVIA 1 standard. 77 FR 12197 (February 29, 2012). In 2018, the Commission published a final rule that amended the mandatory ATV standard to reference the 2017 edition of the ANSI/SVIA 1 standard. 83 FR 8336 (February 27, 2018).¹

¹ On January 5, 2024, the Commission voted (3-1) to approve publication of this final rule. Commissioner Trumka issued a statement in connection with his vote, available at: https://www.cpsc.gov/content/RCA-Federal-Register-Notice-Amendment-to-Standard-for-All-Terrain-Vehicles-Draft-Final-Rule.

II. The ANSI/SVIA 1-2023 Standard and Proposed Rule

On March 21, 2023, SVIA notified the Commission of its publication of a revised ATV standard, ANSI/SVIA 1-2023. On July 27, 2023, the Commission published a proposed rule (NPR), 88 FR 48398, to amend part 1420 to reference the 2023 edition of the ANSI/SVIA 1 standard. In the NPR, the Commission described the material changes made in ANSI/SVIA 1-2023: requirements for hot surfaces; requirements for fuel systems; removal of the maximum recommended tire pressure of 69 kPa (10 psi); and removal of the current requirement that paper user manuals be provided with all ATVs—all with an effective date “beginning with 2026 model year vehicles.”

A. Hot Surfaces

ANSI/SVIA 1-2023 Section 12, Hot Surfaces, newly requires all categories of ATVs to meet surface temperature limits. The July 27, 2023, Staff Briefing Package: Notice of Proposed Rulemaking (NPR) to Amend the All-Terrain Vehicle (ATV) Standard (Staff's NPR Briefing Package) ² provides a detailed analysis of the ATV test methods and maximum allowable surface temperatures that can mitigate the risk of contact burns.

² Staff's NPR Briefing Package is available at https://www.cpsc.gov/s3fs-public/Federal-Register-Notice-Amendment-to-Standard-for-All-Terrain-Vehicles-Notice-of-Proposed-Rulemaking.pdf?VersionId=bcc3JxBvevwLkKnSHIeL90UVi4pIq3lB.

Section 12 provides a method to evaluate the increase in surface temperatures that occurs when an ATV is subjected to a driving test. This test evaluates the heat generated from a test vehicle's components, including the exhaust and engine components, when the vehicle is driven for 30 minutes at a maximum speed of 20 mph. After the driving portion of this test, whether performed on a test track or chassis dynamometer, the test instrumentation records surface temperature data throughout the “heat soak” period, during which the heat load generated by the exhaust and surrounding components transfer to other parts of the ATV. The performance requirement in Section 12 limits the maximum temperatures for various touch points per Table 1:

Table 1—ANSI/SVIA 1-2023 Surface Temperature Limits
Touch point category | Typical contact duration | Maximum material temperature limits, source: ISO 13732-1: Metal, no coatings | Maximum material temperature limits, source: ISO 13732-1: Plastics, general
Continuous | 1 minute or longer | 44 °C (111 °F) | 44 °C (111 °F)
Intermittent | 4 seconds or longer but less than 1 minute | 51 °C (124 °F) | 60 °C (140 °F)
Momentary | 1 second or longer but less than 4 seconds | 58 °C (136 °F) | 76 °C (169 °F)
Incidental | Less than 1 second | 64 °C (147 °F) | 85 °C (185 °F)

These surface temperature limits are comparable to those that apply to other consumer products that can pose contact burn hazards. The ANSI Z21.1-2018 Standard for Household Cooking Gas Appliances, for example, has maximum allowable surface temperatures of 83.5 °C for plastic surfaces and 66.5 °C for metal surfaces of gas ranges, which are comparable to the temperature limits set in ANSI/SVIA 1-2023. In the NPR, the Commission preliminarily concluded that testing the temperature of specified ATV touch points as provided by ANSI/SVIA 1-2023 is reasonably related to the safe performance of ATVs as specified in CPSA section 42(b) and recommended including this revision in the final rule.

B. Fuel Systems

ATVs equipped with gasoline-fueled engines can have fuel breaches from various locations including fuel hose connections, fuel tank cracks, and fuel filter cracks, among others. The 2023 edition of the ANSI/SVIA standard adds performance requirements to mitigate the risk of fuel leaks and fire hazards. Section 13 of ANSI/SVIA 1-2023, Fuel Systems Requirements, specifies comprehensive performance requirements applicable to various elements of the vehicle's fuel system that may contribute to fuel leaks and fire hazards. No previous edition of ANSI/SVIA 1 has included performance requirements to address fire hazards from fuel leaks.

The new performance requirements to mitigate fuel leaks are the following:

• Fuel Tank Structural Integrity: Sections 13.3 and 13.5 Fuel Tank Immersion Leak Test and Fuel Tank Cyclic Pressure Integrity Test, Section 13.6 Fuel Soak Test for Plastic Tanks and Assemblies with Grommets and Seals, Section 13.7.1 Fuel Tank Impact Integrity Test, and Sections 13.8 and 13.15 Fuel Tank Protection Envelope Analysis and Fuel Tank Venting;

• Fuel Hoses: Section 13.9 Fuel Line Integrity and Section 13.10 Fuel Line Connection Tensile Test;

• Fuel Filter and Shut-off Valve: Section 13.4 Fuel Filter and Shut-off Valve Immersion Leak Test; and

• Elastomeric Component Durability: Section 13.11 Fuel Resistance Test, Section 13.12 Ozone Resistance, Section 13.13 Ultraviolet (UV) Resistance Test, and Section 13.14Corrosion Resistance.

Most of these requirements are one-time design qualification tests. The one-time qualification tests require manufacturers to conduct a single test for certification that the design of a fuel system meets all the applicable requirements, after which components of individual vehicles may be manufactured to those design specifications without further testing. Only the Section 13.3 Fuel Tank Immersion Leak Test and 13.4 Fuel Filter and Shut-off Valve Immersion Leak Test must be performed on each fuel tank unit before they are installed on a manufacturer's ATV production line.

The one-time qualification tests to evaluate fuel tank structural integrity performance involve impacts, cyclical pressure to simulate ambient temperature fluctuations, elevated temperature environments, and simulated rollover scenarios. The required tests evaluate the leakage rates of rollover vent valves in rollover scenarios; the integrity of fuel hose connections; fuel filters and fuel shutoff valves' ability to resist leakage; and elastomeric (rubber) components' ability to resist ultraviolet (UV), ozone, and chemical exposures. The NPR Staff Briefing Package provides detailed explanations of the various subsections of Section 13 that will mitigate fire risks from fuel leaks.³

³ Briefing Memorandum and Tab A of NPR to Amend ATV Standard, July 2023: https://www.cpsc.gov/s3fs-public/Federal-Register-Notice-Amendment-to-Standard-for-All-Terrain-Vehicles-Notice-of-Proposed-Rulemaking.pdf?VersionId=bcc3JxBvevwLkKnSHIeL90UVi4pIq3lB.

The fuel system performance requirements in Section 13 are directed at reducing the risk of fuel leaks due to possible fuel breaches, over pressurizations, fuel spills, and component deterioration. Thus, in the NPR, the Commission preliminarily concluded that the fuel system performance requirements in Section 13 of the 2023 edition of the ANSI/SVIA standard are reasonably related to the safe performance of ATVs and recommended including this revision in the final rule.

C. Removal of the Maximum Recommended Tire Pressure

Section 4.19 Tires of the 2007, 2010, and 2017 editions of the ANSI/SVIA 1 standard defined “low-pressure tires” as “having a recommended tire pressure of no more than 69 kPa (10 psi).” Section 4.19 of the 2017 standard differentiates between Pneumatic Tires (Section 4.19.1) and Non-Pneumatic Tires (NPTs) (Section 4.19.2) and sets a Pneumatic Tire requirement of “Maximum recommended tire pressure of 69 kPa (10 psi).” Section 4.19.2 specifies “NPTs [sic] vertical stiffness shall be designed to produce a ground pressure of 69kPa (10 psi) or less with the subject vehicle.” In the 2023 revision, however, the tire pressure value for Pneumatic Tires and vertical stiffness equivalent tire pressure value for NPTs have been deleted.

In the NPR, the Commission preliminarily concluded that the removal of a maximum tire pressure from the ANSI/SVIA 1-2023 standard is reasonably related to the safe performance of ATVs and not detrimental to ATV safety, and accordingly proposed including this revision in the final rule.

D. Owner's Manual

The 2023 edition of ANSI/SVIA 1 removes a phrase stating that mandatory owner's manuals “may be supplemented at the manufacturer's option in electronic form viewable on a display on the ATV or other device,” which was added to the 2017 edition. Section 4.21 of the 2023 revision instead states that “[a]ll ATVs shall be provided with a manual in paper or electronic form at the time of delivery to the first purchaser. All ATVs with printed manuals shall be equipped with a means of carrying the manual that protects it from destructive elements while allowing reasonable access” (emphasis added).

Based on the increased risk of consumers not receiving information on the safe use of ATVs if that information is only electronically available, the Commission preliminarily concluded in the NPR that this provision is not consistent with the safe operation of ATVs and proposed maintaining in effect the 2017 version of Section 4.21.

E. Effective Date

The CPSA provides a timetable for the Commission to issue an NPR (within 120 days of receiving notification of a revised ANSI/SVIA standard) and to issue a final rule (within 180 days of publication of the proposed rule), but it does not establish requirements for effective dates. When the Commission adopted the 2010 revision to the ANSI/SVIA standard, it set an effective date of 60 days from publication of the final rule. 77 FR 12197. The Commission set that date after considering comments from several ATV companies to allow them additional time to update their certification labels. When the Commission adopted the 2017 revision to the ANSI/SVIA standard, it set an effective date of January 1, 2019, approximately 10 months after publication of the final rule, after considering SVIA's comments about the time needed for manufacturers to make the required changes. 83 FR 8336 (Feb. 27, 2018).

The ANSI/SVIA 1-2023 standard provides that the revised voluntary standard is effective beginning with the 2026 model year. However, it does not set a specific date. In the NPR, the Commission proposed a specific effective date of September 1, 2024. The proposed effective date was based on staff's assessment of the time needed to comply with changes to the safety standard, the need for a date certain to facilitate industry planning, and that the proposed effective date was reasonably related to consumer safety. The proposed rule's effective date also was based on staff's assessment that many ATVs already meet some of the new requirements in ANSI/SVIA 1-2023, and the changes from the 2017 to the 2023 voluntary standard will not require significant redesign or testing, both of which facilitate timely compliance.

The Commission preliminarily concluded in the NPR that its proposed effective date was reasonable, feasible, and adequate to protect consumer safety because:

• All ATVs' gasoline powered engines and associated components sold in the U.S. are regulated by the U.S. Environmental Protection Agency (EPA) for exhaust and evaporative emissions, see 40 CFR 1051.515(d) (fuel tank permeation testing) which makes them exempt from having to test per ANSI/SVIA 1-2023's Section 13.5 Fuel Tank Cyclic Pressure Integrity Test.

• The NPR's proposed effective date would allow adequate time for resolution of supply chain issues, quality control issues, and any other issues that might arise.

• The timeline in the Commission's proposed rule incorporating by reference the SVIA 1-2023 standard was similar to the timeline for its rule incorporating by reference the SVIA 1-2017 standard update. In June 2017, SVIA notified the Commission of the 2017 edition of the SVIA-1 standard. The final rule established an effective date of January 1, 2019, which was 18 months from start to finish (comparable to the NPR's proposed interval).

III. Response to Comments on the Proposed Rule

The Commission received comments on the NPR from 11 commenters. Some comments are not relevant to any of the material changes in the ANSI/SVIA 1-2023 standard, described above. Below, the Commission summarizes and responds to the significant issues in the relevant comments.

A. Fuel Systems (Section 13 of ANSI/SVIA 1-2023)

Comment: Safety Research and Strategies (SRS) (commenter ID CPSC-2017-0032-0041) and Consumer Federation of America (CFA) (commenter ID CPSC-2017-0032-0046) assert the fuel system performance requirements in Section 13 of ANSI/SVIA 1-2023 are not effective because they do not reflect real-world scenarios in which fuel system components can be compromised, such as rollovers or collision events.

Response: Section 13 of ANSI/SVIA 1-2023 contains multiple new performance requirements to mitigate fuel leakage in various real-world scenarios, and therefore improves the safety of ATVs. The NPR Staff Briefing Package discusses the various subsections of Section 13 that will mitigate fire risks from fuel leaks.⁴

⁴ Briefing Memorandum and Tab A of the Notice of Proposed Rule (NPR) to Amend the All-Terrain Vehicle (ATV) Standard, July 2023, available at: https://www.cpsc.gov/s3fs-public/Federal-Register-Notice-Amendment-to-Standard-for-All-Terrain-Vehicles-Notice-of-Proposed-Rulemaking.pdf?VersionId=bcc3JxBvevwLkKnSHIeL90UVi4pIq3lB.

For example, to mitigate fuel hoses sliding off during operation, Section 13.10 requires fuel hoses to retain connection to a hose barb or other fuel fitting, such as a fuel rail nozzle, when subjected to a 30 lb. tensile (pull) test. This 30-lb pull test requirement would protect a fuel hose from sliding off in scenarios such as: engine vibrations; vegetation or other debris getting caught around a fuel hose; or due to an owner inadvertently pulling on a hose during inspection of the vehicle.

To resist fuel tank cracking or other forms of fuel breach from the fuel tank, unprotected areas of fuel tanks are subjected to a new impact test per Section 13.7.1 of ANSI/SVIA 1-2023. An ATV manufacturer has two options for performing this test: (i) striking the fuel tank surface with a 2-inch diameter, 1.18 lb. sphere (e.g., chrome steel ball bearing) that is dropped from 1.3 meters (51 inches) after the sample fuel tank has been conditioned for 24 hours in a cold chamber set at 4 °F; or (ii) dropping a sample fuel tank filled with antifreeze from a height of 1.2 m (49 inches) onto a concrete surface (the SAE J288 snowmobile fuel tank test method) after the sample has been conditioned for five hours in a cold chamber set at −40 °F. Both test methods ensure that a fuel tank can withstand impact at approximately 11mph. These tests simulate real scenarios, as fuel tanks are subjected to temperature extremes and plastic fuel tanks may be susceptible to thermal expansion and contraction, which may lead to stress cracks and fuel leaks. Also, loose debris such as stones may strike unprotected areas of the fuel tanks. These test requirements accordingly will help ensure the structural integrity of ATV fuel tanks.

Section 13.7.2 outlines a performance test that positions a fuel tank filled with water at a 90° angle from the horizontal. The fuel tank and its components, such as hoses and valves, are required to not have any leakage in order to pass this test. This test evaluates the potential fuel leakage scenarios of an ATV that has rolled over.

Section 13.15 evaluates fuel leakage from a rollover vent valve. A test fuel tank filled with water is positioned upside down and the fuel tank is observed for leakage from the rollover vent valve.

The Commission finds that the various performance tests of Section 13 of ANSI/SVIA 1-2023 simulate real world scenarios and promote fuel systems' structural integrity. Furthermore, the commenters have not recommended any alternative test methods that are improvements over the current Section 13 performance requirements. Thus, the final rule adopts Section 13 of ANSI/SVIA 1-2023, without change, as part of the mandatory standard.

B. Paper Owner's Manuals (Section 4.21 of ANSI/SVIA 1-2023)

Comment: SVIA supports the voluntary standard's treatment of electronic owner's manuals as an alternative to paper owner's manuals. Section 4.21 of ANSI/SVIA 1-2023 states “[a]ll ATVs shall be provided with a manual in paper or electronic form at the time of delivery to the first purchaser.” SVIA supports electronic owner's manuals because they offer the advantages of being keyword searchable and downloadable if the paper manual is lost.

Conversely, SRS and CFA support maintaining owner's manuals on paper as the default medium. In particular, CFA states:

The default must be paper manuals. Anything less, including an electronic format only manual, is a serious reduction in [safety]. Considering the use of these vehicles—hunting, fishing, camping, trailing riding, and other outdoor recreation—consumers need access to paper manuals if they encounter issues where there is no internet or electronic devices are unavailable.

Response: The Commission agrees with SRS and CFA that eliminating the requirement for paper manuals would lead to a reduction in safety. While SVIA advocates electronic owner's manuals because they have the advantages of being keyword searchable and downloadable if the paper manual is lost, the key assumption—which may be incorrect—is that at the time an ATV owner is seeking safety-related information from the owner's manual, the owner will have an electronic device and/or an internet connection to access the manual. As SRS points out, “ATVs, like other off-road vehicles, often travel to remote areas that may be beyond cellular phone service range or to an area without sufficient signal to download or open a manual.”

The Commission accordingly determines that this revision in ANSI/SVIA 1-2023 is not reasonably related to the safe performance of ATVs because it would reduce the safety of using ATVs. Consistent with the NPR, the Commission will retain the requirement for a paper owner's manual, as stated in Section 4.21 of the ANSI/SVIA 1-2017. Manufacturers are free to supplement the paper manuals with electronic manuals to achieve the additional benefits identified by SVIA.

C. Tire Pressure (Section 4.19 of ANSI/SVIA 1-2023)

Comment: SVIA supports adopting the 2023 revision's removal of the 10 psi (69 kPa) maximum recommended tire pressure requirement on the basis that it “fails to reflect technological advancements in design of ATV suspension components.” SVIA asserts that “[l]ow-pressure tires were originally required on early ATVs as a basic means of vibration dampening because vehicles lacked more sophisticated suspension equipment” and are no longer required due to improved suspension systems. Conversely, CFA “suggests” rejecting ANSI/SVIA 1-2023's removal of the maximum recommended tire pressure from Section 4.19 of the standard. CFA states that it “is concerned that removing the maximum recommended tire pressure of 69 kPa (10 psi) may not be safety neutral if manufacturers or users disregard warnings not to use ATVs on public roads and paved surfaces.”

Response: The Commission agrees with SVIA that the evolution of more robust suspension systems for ATVs has addressed energy absorption during riding without the need to restrict tire pressures. Although CFA correctly identifies the hazard associated with misuse of ATVs on-road, it does not provide, nor is the Commission aware of, any evidence showing that use of ATVs on paved roads would be more hazardous with higher recommended tire pressures. Further, as SVIA points out, removing the maximum tire pressure limitation would allow innovations in ATV tires and suspension systems that could lead to improvements in vehicle safety. For this reason, the Commission concludes on the record currently before us that the change allowing manufacturers to set the optimum tire inflation pressures for each ATV model will not reduce safety and is reasonably related to the safe operation of an ATV. Thus, the Commission adopts Section 4.19 of ANSI/SVIA 1-2023 in the final rule without any change.

D. The Effective Date of the Final Rule

Comment: SVIA objects to the NPR's proposed effective date of September 1, 2024, noting that Section 1 Scope of ANSI/SVIA 1-2023 states that the voluntary standard becomes effective beginning with Model Year 2026. SVIA states that the product development cycle for ATVs is two or more years to design and develop new models. SVIA contends that model year designations are typical in the ATV industry and other vehicle industries. SVIA states that EPA emissions requirements are based on model year. SVIA advocates that if the Commission's final rule substitutes a specific calendar date for the model year effective date contained in the SVIA voluntary standard, the date should be no earlier than September 30, 2025, to account for the variations in the model year production cycles of affected ATV manufacturers.

Response: Manufacturers have varying schedules for manufacturing, importing, and distributing vehicles of the same model year, making CPSC enforcement of a rule based on a model year—without a specific effective date—impractical. For compliance and enforcement purposes, and for clarity for industry and consumers alike, the final rule provides a specific effective date for the safety improvements in the 2023 standard revision. Indeed, for CPSC rules the Office of the Federal Register (OFR) requires a specific effective date. See 1 CFR 18.17(a) (“Each document submitted for publication in the Federal Register that includes an effective date or time period should either set forth a date certain or a time period measured by a certain number of days after publication in the Federal Register.”).

In June 2017, SVIA notified the Commission of publication of the 2017 edition of the ANSI/SVIA 1 standard. The final rule established an effective date of January 1, 2019, which was 18 months from notification by SVIA to the effective date. That revision included significant changes to the ANSI/SVIA 1 standard, including new requirements for stop lamps or combination tail-stop lamps on specified ATVs as well as reflector requirements for all ATVs. Nothing in SVIA's comments or elsewhere in the record suggests that manufacturers had difficulty complying with the 2017 revision on that timeline. Compared to the Commission's successfully implemented rule adopting the 2017 revision, the January 1, 2025, effective date for this rule provides manufacturers more time to comply: The period from SVIA's notification of the revision to the effective date is longer; the period from publication of the NPR to the effective date is longer; and the period from publication of this final rule to the effective date is longer.

The ANSI/SVIA 1-2023 standard was developed by SVIA member companies, an ATV test laboratory, a consumer advocacy group, individual ATV users, and U.S. and Canadian Government agencies through a consensus process. The consensus process started in September 2018 and ended in March 2023.⁵ Thus, SVIA canvass members have been aware of the requirements in the 2023 edition of the ANSI/SVIA 1 standard since March 2023 at the latest.

⁵ Voluntary Standards Meeting with Recreational Off-Highway Institute (ROHVA), SVIA, and Outdoor Power Equipment Institute (OPEI) to discuss Off-Highway Vehicle (OHV) Fire and Debris Penetration Hazards, September 19, 2018. Weblink to Meeting Log: https://www.cpsc.gov/s3fs-public/2018-09-19%20Voluntary%20Standards% 20Meeting%20on%20Off-Highway%20Vehicles.pdf?GhlbD87TF1W8m6F9B10g2CpZTCNzSrjP.

Nevertheless, the Commission takes SVIA's point that model year cycles are relevant to the industry. Accordingly, to align with the successful implementation of the 2017 revision, the September 1, 2024, effective date in the NPR will be extended to January 1, 2025. This makes the rule effective on the first of the calendar year. Just as with the 2017 revision, the rule will take effect at exactly the same time in the model year.

The particulars of the 2023 standard revision provide CPSC additional confidence that the January 1, 2025, date can be met. Because ATVs' gasoline engines and associated components sold in the U.S. are regulated by the EPA for exhaust and evaporative emissions, they will be exempt from the Fuel Tank Cyclic Pressure Integrity Test per Section 13.5 of ANSI/SVIA 1-2023. In addition, due to existing EPA regulations, most ATV manufacturers will already satisfy some of the new criteria of ANSI/SVIA 1-2023 with no additional effort.

Further, nearly all the fuel system performance requirements in Section 13 of the ANSI/SVIA 1-2023 are one-time proof of design qualification verification tests that do not burden manufacturers with production line testing of every fuel system component or fuel system assembly. There are only a few tests, such as the water immersion fuel tank leakage test in Section 13.3, that require every fuel tank to be tested.

Finally, similar fuel system requirements for other off-highway vehicle voluntary standards have had effective dates as short as 12 months after publication of the voluntary standard. For example, the 2012 edition of the golf car standard, ANSI/ILTVA (International Light Transportation Vehicle Association) Z130.1-2012, had an effective date of one year after publication of the voluntary standard. Section 11.3.5 of that standard includes the same rollover vent leakage test as Section 13.15 of the ANSI/SVIA 1-2023 standard. The history of industry compliance with the 12-month effective date for ANSI/ILTVA Z130.1-2012 supports the feasibility of the final rule`s timeframe.

For all these reasons, and having considered the comments as discussed above, the final rule establishes an effective date of January 1, 2025. This date balances the commenter's pragmatic concerns against the safety benefit of updating the mandatory standard to protect consumers from harm.

E. Other, Out of Scope, Comments

Comment: CFA recommends that ATVs be equipped with seat belts and roll cages to aid in protecting the ATV rider. CFA asserts that speed limiting devices can be defeated by children and that there are high failure rates associated with such devices. CFA commented that Type I ATVs with longer seats may encourage a passenger to ride with an ATV driver, although there are warnings to discourage passengers and to alert consumers that these Type I ATVs are not designed for use with a passenger in addition to a driver. Type II ATVs are intended for passengers; however, CFA expresses the opinion that Type II ATVs should not allow a passenger to ride with an ATV driver.

Mariam Grace (commenter ID CPSC-2017-0032-0040) recommends that to ensure safe operation of ATVs, the Commission should set minimum age requirements for their use and require extensive training for the safe operation of ATVs. The Toy Association (commenter ID CPSC-2017-0032-0043) notes that the definition of a “youth ATV” in ANSI/SVIA 1-2023 may overlap in some instances with the definition of a “ride on toy” in ASTM 963 Toy Standard. The Toy Association expresses concern that if a toy within the scope of ASTM F963 has been mis-identified as falling under the scope of a youth ATV per 16 CFR part 1420 and ANSI/SVIA 1, the toy manufacturer is faced with an impossible situation whereby compliance with these (non-toy) requirements results in the mandate for an “ATV Action Plan” to be generated and filed with the Commission, and instructional material will be required to state “this is not a toy” in contradiction of the design and stated intent of the product, and despite the requirement to comply with the mandatory toy standard under 16 CFR part 1250.

Response: The Commission welcomes dialogue on the above issues and their discussion in future SVIA voluntary standards meetings. However, these comments are not related to the changes made in ANSI/SVIA 1-2023. The 2023 version of the SVIA 1 standard does not change the sections and definitions described by these commenters.

IV. Description of the Final Rule

The final rule revises 16 CFR 1420.3(a), “Requirements for four-wheel ATVs,” to incorporate by reference the ANSI/SVIA 1-2023 standard, instead of the ANSI/SVIA 1-2017 standard. ANSI/SVIA 1-2023 contains requirements and test methods relating to ATVs, including vehicle equipment and configuration, vehicle speed capability, brake performance, pitch stability, electromagnetic compatibility, sound level limits, hot surfaces, and fuel systems. Revisions incorporated into ANSI/SVIA 1-2023 are described in section II of this preamble. The final rule, however, maintains the requirement for paper manuals in ANSI/SVIA 1-2017.

V. Effective Date

The Commission has set an effective date of January 1, 2025, requiring that all ATVs manufactured on or after January 1, 2025, must comply with the final rule.

VI. Regulatory Flexibility Act

The Regulatory Flexibility Act (RFA) generally requires that agencies review a proposed rule for its potential economic impact on small entities, including small businesses. The NPR explained that the most significant changes in the 2023 revision of the voluntary standard involve requirements for fuel systems and hot surfaces and CPSC's analysis is that many ATVs already comply with some of these requirements, and therefore the primary cost to manufacturers would be the costs of one-time design qualification tests and production part testing. Because, however, none of the 14 domestic ATV manufacturers the Commission identified meet Small Business Association (SBA) criteria to be considered a small business, CPSC preliminarily assessed that the proposed rule would not have a significant adverse economic impact on any domestic small ATV manufacturers. CPSC further assessed that foreign manufacturers are unlikely to exit the ATV market and are likely to issue General Certificates of Conformity (GCCs), such that the rule would not have a significant, adverse economic impact on ATV importers. 88 FR 48398, 48401-02. The Commission requested comments with data supporting or refuting whether there are ATV manufacturers that may meet the SBA criteria to be considered small businesses.

No commenter identifies any ATV manufacturer that may meet the SBA criteria to be considered a small business. The Commission also did not receive any comments addressing whether the proposed rule will have a significant economic impact on a substantial number of small entities. Accordingly, consistent with the NPR, the Commission certifies that the final rule will not have a significant economic impact on a substantial number of small entities.

VII. Paperwork Reduction Act

This rule contains no new information collection requirements. Accordingly, this rule is not subject to the Paperwork Reduction Act of 1995 (PRA; 44 U.S.C. 3501-3521). The Commission did not receive any comments on the PRA burden estimate included in the NPR; therefore, in this final rule, the Commission presents its analysis of its PRA burden included in the NPR, which remains the same, with only minor corrections to the calculations for information purposes. Other CPSC rulemaking, using different sets of assumptions, generate estimates in the same range. The Commission did not receive any comments on the PRA burden estimate included in the NPR.

The rule amends the ATV standard to mandate industry compliance with ANSI/SVIA 1-2023. The standard's requirements include provisions that fall within the definition of “collection of information,” as defined in 44 U.S.C. 3502(3). Under the PRA, an agency must publish the following information for a collection of information:

• title;

• summary;

• brief description of the need for the information and the use of the information;

• description of the likely respondents and frequency of response to the collection of information;

• estimate of the burden that shall result from the collection of information; and

• notice that comments may be submitted to the Office of Budget Management (OMB).

This information appears below.

Title: Standard for All-Terrain Vehicles.

Summary and Description: The rule amends the ATV standard to mandate industry compliance with ANSI/SVIA 1-2023, American National Standard for Four-Wheel ATVs. The rule requires ATVs to comply with ANSI/SVIA 1-2023, including certification testing in support of GCCs required by section 14 of the CPSA. GCCs must comply with 16 CFR part 1110 concerning the content of the GCC, retention of the associated records, and other applicable requirements. The preparation of the GCC falls within the definition of “collection of information” as defined in 44 U.S.C. 3502(3). Requirements of the 2023 revision that are unchanged from the previous version of the standard, ANSI/SVIA 1-2017, such as labels, hang tags, and instruction manuals, are not included in this PRA analysis.

Description of Respondents: Entities which manufacture or import ATVs.

Estimated Burden: We estimate the total burden of this collection of information is 441 hours and $16,229. Table 2, below, summarizes our estimation of annual reporting burden hours and cost.

Table 2—Estimated Annual Reporting Burden
[Some numbers adjusted due to rounding]
Burden type | Number of respondents | Frequency of responses | Total annual responses | Hours per response | Total burden hours | Annual cost
Labor Burden:
GCC Preparation | 38 | 1 | 38 | 1.5 | 57 | $2,098
One-Time Design Qualification Testing Recordkeeping | 25 | 1.9 | 48 | 8 | 382 | $14,072
Total Burden |  |  |  |  | 439 | $16,170

Comments: In the NPR (88 FR 48398), pursuant to 44 U.S.C. 3506(C)(2)(A), the Commission invited comments on the Commission's assessment of the burden of these information collection requirements.

PRA Burden Estimation

This section describes the development of staff's burden estimates summarized in Table 2, above.

GCC Preparation

Section 14 of the CPSA requires manufacturers and importers of ATVs to prepare GCCs. Based on current ATV action plans filed with CPSC, there are 38 entities that supply, or intend to supply, ATVs to the U.S. market. Staff found evidence of ATV sales activity, in the form of actual sales or advertisement for sale, for only 32 of the 38 entities. Nevertheless, taking a conservative approach, staff assumed that all 38 entities (both manufacturers and importers) are currently supplying ATVs to the U.S. market and used this number to estimate the burden hours and annual cost associated with GCCs. ATV manufacturers typically produce one GCC that covers all the models of a model year, which implies the number of PRA responses is one per entity, per year. Staff estimates the time required to produce this GCC is about 1.5 person hours per year. Therefore, the estimated burden associated with GCCs is 57 person hours (38 entities × 1 GCC per year × 1.5 hours per GCC = 57 person hours). To generate the estimated annual cost to industry associated with GCCs, staff multiplied the estimated number of burden hours by $36.80, the total hourly compensation for sales and office workers in goods-producing private industries.⁶ Therefore, the estimated annual cost to industry associated with preparation of the GCCs is approximately $2,098 ($36.80 per hour × 57 hours = $2,097.60).

⁶ U.S. Bureau of Labor Statistics, “Table 4. Employer Costs for Employee Compensation for private industry workers by occupational and industry group,” updated March 17, 2023, Table 4. Private industry workers by occupational and industry group—2022 Q04 Results (bls.gov).

Recordkeeping Supporting GCC Preparation

In the event a foreign manufacturer chooses not to conduct required certification testing and/or provide documentation to support preparation of the GCC, its importer could choose to conduct its own certification testing. However, staff considers this scenario unlikely, and for several of the importers, cost prohibitive. Therefore, staff assumes entities conducting certification testing and associated recordkeeping are limited to ATV manufacturers. Based on 2020 sales data,⁷ there were 25 known U.S and foreign manufacturers supplying as many as 239 new and old ATV models and 420,730 ATVs to the U.S. market.

⁷ Power Products Marketing, USATVDBAdultYouth′94--′20--CPSC and Non-MIC ATV Database ′20—CPSC databases, Prairie Eden, MN, 2021.

Staff estimates the average life cycle of an ATV model is approximately five years, which implies each manufacturer will conduct one-time design qualification testing on approximately 1.9 models per year (239 models ÷ 25 entities ÷ 5 years = 1.912, or about 1.9 models per entity per year). Staff estimates the time required to create and maintain certification records to be approximately eight person hours per model. Therefore, the estimated labor burden associated with certification testing recordkeeping is approximately 382 person hours (25 entities × 1.912 ATV models per year × 8 person hours per model = 382.4 person hours). As above, staff multiplied the estimated number of burden hours by $36.80, the total hourly compensation for sales and office workers in goods-producing private industries. The estimated annual cost to industry associated with certification testing recordkeeping is approximately $14,072 ($36.80 per person hour × 382.34 person hours = $14,072.32).

Summary of Burden Hours and Cost

Based on this analysis, the final rule would impose an annual burden to industry of approximately 439 hours per year (57 for preparation of the GCC and 382.4 hours for recordkeeping associated with the certification tests upon which the GCCs are based). The estimated annual cost is approximately $16,170 ($2,097.6 and $14,072.32 for GCC preparation and certification testing recordkeeping, respectively).

The above estimates are a conservative estimate of the average annual burden to ATV entities. The rule requires all ATVs manufactured on or after January 1, 2025, to comply with ANSI/SVIA 1-2023. Therefore, in the first year following promulgation of the rule, existing entities may be required to redesign and test more than the estimated average 48 models per year and incur higher costs than the estimates in this PRA analysis. In subsequent years, costs could be less, as a fewer number of ATV models will require design updates.

As stated above, CPSC did not receive any comments on the PRA burden estimate. CPSC has submitted the information collection requirements of this final rule to OMB for review in accordance with PRA requirements. 44 U.S.C. 3507(d).

VIII. Environmental Considerations

The Commission's regulations provide a categorical exemption for the Commission's rules from any requirement to prepare an environmental assessment or an environmental impact statement as they “have little or no potential for affecting the human environment.” 16 CFR 1021.5(c)(1). This amendment falls within the categorical exemption.

IX. Incorporation by Reference

The OFR has regulations concerning incorporation by reference. 1 CFR part 51. For a final rule, agencies must discuss in the preamble to the rule ways that the materials the agency incorporates by reference are reasonably available to interested persons and how interested parties can obtain the materials. In addition, the preamble to the final rule must summarize the material. 1 CFR 51.5(b).

In accordance with the OFR's requirements, this preamble summarizes the provisions of ANSI/SVIA 1-2023, American National Standard for Four Wheel All-Terrain Vehicles, ANSI-approved March 17, 2023, that the Commission is incorporating by reference. ANSI/SVIA 1-2023 is copyrighted. Interested people may purchase a copy of ANSI/SVIA 1-2023 from Specialty Vehicle Institute of America, 2 Jenner, Suite 150, Irvine, CA 92618-3806; telephone: 949-727-3727 ext. 3023; www.svia.org. In addition, a read-only copy of the standard is available for viewing on the SVIA website at https://svia.org/ansi-svia-1-2023/. A copy of the standard is also available for inspection at the Office of the Secretary, U.S. Consumer Product Safety Commission, 4330 East West Highway, Bethesda, MD 20814, telephone: (301) 504-7479, email: cpsc-os@cpsc.gov.

X. Preemption

Section 26(a) of the CPSA, 15 U.S.C. 2075(a), provides that when a consumer product safety standard is in effect and applies to a product, no state or political subdivision of a state may either establish or continue in effect a standard or regulation that prescribes requirements for the performance, composition, contents, design, finish, construction, packaging, or labeling of such product dealing with the same risk of injury unless the state requirement is identical to the Federal standard. Section 26(c) of the CPSA also provides that states or political subdivisions of states may apply to the Commission for an exemption from this preemption under certain circumstances. Section 42 of the CPSA establishes that the rules to be issued for ATVs under that section are “consumer product safety standards.” Therefore, the preemption provision of section 26(a) of the CPSA applies to this final rule.

XI. Notice of Requirements

The CPSA establishes requirements for product certification and testing. Certification of children's products subject to a children's product safety rule must be based on testing conducted by a CPSC-accepted third-party conformity assessment body. 15 U.S.C. 2063(a)(2). The Commission is required to publish a notice of requirements (NOR) for the accreditation of third-party conformity assessment bodies to assess conformity with any children's product safety rule to which a children's product is subject. Id. 2063(a)(3). In 2010, the Commission published an NOR for accreditation of third-party conformity assessment bodies for testing ATVs designed or intended primarily for children 12 years of age or younger. 75 FR 52616 (Aug. 27, 2010). Because the revisions the 2023 revisions to the SVIA 1 standard do not substantially alter third-party conformance testing requirements for ATVs designed or intended primarily for children 12 years of age or younger, the current NOR for third-party testing of youth ATVs will remain unchanged. Thus, the existing accreditations that the Commission has accepted for testing to the 2017 ATV standard will also cover testing of children's products to the revised ATV standard.

XII. Congressional Review Act

The Congressional Review Act (CRA; 5 U.S.C. 801-808) states that, before a rule may take effect, the agency issuing the rule must submit the rule, and certain related information, to each House of Congress and the Comptroller General. 5 U.S.C. 801(a)(1). The submission must indicate whether the rule is a “major rule.” The Office of Information and Regulatory Affairs (OIRA) determines whether a rule qualifies as a “major rule.” 5 U.S.C. 804(2). Pursuant to the CRA, OIRA determined that this rule is not a major rule. To comply with the CRA, CPSC will submit the required information to each House of Congress and the Comptroller General.

List of Subjects in 16 CFR Part 1420

Consumer protection, Imports, Incorporation by reference, Infants and children, Information, Labeling, Law enforcement, Recreation and recreation areas, Reporting and recordkeeping requirements, Safety.

For the reasons stated in the preamble, the Commission amends part 1420 of title 16 of the Code of Federal Regulations as follows:

PART 1420—REQUIREMENTS FOR ALL-TERRAIN VEHICLES

1. The authority citation for part 1420 is revised to read as follows:

Authority: 15 U.S.C. 2089.

2. Revise § 1420.1 to read as follows:

§ 1420.1 Scope and application.

This part, a consumer product safety standard, prescribes requirements for all-terrain vehicles.

3. Amend § 1420.3 by revising paragraph (a) to read as follows:

§ 1420.1 Requirements for four-wheel ATV's.

(a) Each new assembled or unassembled ATV manufactured before January 1, 2025, shall comply with all applicable provisions of the American National Standard for Four-Wheel All-Terrain Vehicles (ANSI/SVIA 1-2017), ANSI-approved on June 8, 2017. Each new assembled or unassembled ATV manufactured on or after January 1, 2025, shall comply with all applicable provisions of the American National Standard for Four-Wheel All-Terrain Vehicles ANSI-approved on March 17, 2023 (ANSI/SVIA 1-2023), with the exception of Section 4.21 Owner's Manual, as to which it shall continue to comply with the ANSI/SVIA 1-2017 standard. ANSI/SVIA 1-2017 and ANSI/SVIA 1-2023 are incorporated by reference into this section with the approval of the Director of the Federal Register under 5 U.S.C. 552(a) and 1 CFR part 51. This material is available for inspection at the U.S. Consumer Product Safety Commission and at the National Archives and Records Administration (NARA). Contact the U.S. Consumer Product Safety Commission at: Office of the Secretary, U.S. Consumer Product Safety Commission, 4330 East West Highway, Bethesda, MD 20814, telephone: (301) 504-7479. For information on the availability of this material at NARA, email: fr.inspection@nara.gov, or go to: www.archives.gov/federal-register/cfr/ibr-locations.html. The material may be obtained from the Specialty Vehicle Institute of America, 2 Jenner, Suite 150, Irvine, CA 92618-3806; telephone: 949-727-3727; www.svia.org. In addition, a read-only copy of ANSI/SVIA 1-2023 is available for viewing on the SVIA website at https://svia.org/ansi-svia-1-2023/.

* * * * *

Alberta E. Mills,
Secretary, Consumer Product Safety Commission.

[FR Doc. 2024-01309 Filed 1-22-24; 8:45 am]

BILLING CODE 6355-01-P